DEPARTMENT OF ENERGY

Federal Energy Regulatory Commission

Combined Notice of Filings #2

Take notice that the Commission received the following exempt wholesale generator filings:

Docket Numbers: EG17-57-000.

Applicants: Solar Star Oregon II, LLC.

Description: Notice of Self-Certification of Exempt Wholesale Generator Status of Solar Star Oregon II, LLC.

Filed Date: 2/9/17.

Accession Number: 20170209-5148.

Comments Due: 5 p.m. ET 3/2/17.

Take notice that the Commission received the following electric rate filings:

Docket Numbers: ER17-953-000.

Applicants: South Central MCN LLC.

Description: § 205(d) Rate Filing: South Centeral MCN LLC Rate Schedule Change to be effective 4/1/2016.

Filed Date: 2/9/17.

Accession Number: 20170209-5120.

Comments Due: 5 p.m. ET 3/2/17.

Docket Numbers: ER17-954-000.

Applicants: Midcontinent Independent System Operator, Inc.

Description: § 205(d) Rate Filing: 2017-02-09_SA 2997 Palo Alto Wind-MidAmerican GIA (J529/J590) to be effective 1/25/2017.

Filed Date: 2/9/17.

Accession Number: 20170209-5152.

Comments Due: 5 p.m. ET 3/2/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 9, 2017.
Nathaniel J. Davis, Sr.,
Deputy Secretary.

[FR Doc. 2017-03004 Filed 2-14-17; 8:45 am]

BILLING CODE 6717-01-P